DEPARTMENT OF TRANSPORTATION

Federal Aviation Administration

14 CFR Part 71

[Docket No. FAA-2020-0627; Airspace Docket No. 19-ANM-29]

RIN 2120-AA66

Establishment of Class E Airspace; Granby, CO

Correction

In the rule document 2020-21888 appearing on pages 62572-62573 in the issue of Monday, October 5, 2020, make the following correction:

§ 71.1 [Corrected]

1. On page 62573, in the second column, line twenty, “2.2° miles” should read “2.2 miles”

2. On page 62573, in the second column, line twenty-one, “110ß bearing” should read “110° bearing”

[FR Doc. C1-2020-21888 Filed 10-8-20; 8:45 am]

BILLING CODE 1301-00-D